DEPARTMENT OF AGRICULTURE

Farm Service Agency

Commodity Credit Corporation

Information Collection Request; Discharge and Delivery Survey Summary and Rate Schedule Forms

AGENCY: Farm Service Agency and Commodity Credit Corporation, USDA.

ACTION: Notice; request for comments.

SUMMARY: In accordance with the Paperwork Reduction Act of 1995, the Farm Service Agency (FSA) and Commodity Credit Corporation (CCC) are requesting comments from all interested individuals and organizations on a revision and extension of a currently approved information collection request. This information collection is necessary to support the procurement of agricultural commodities for domestic and export food donation programs. FSA and CCC issue invitations to purchase or sell and transport commodities, as well as sample, inspect and survey, agricultural commodities at both domestic and foreign locations for use in international food donation programs on a monthly, multiple monthly, quarterly, and yearly basis. Special invitations, however, are issued throughout the month. The Kansas City Commodity Office acting under the authority granted by these acts, purchases discharge survey services conducted at the foreign destinations to ensure count and condition of the commodities shipped.

DATES: We will consider comments that we receive by February 7, 2017.

ADDRESSES: We invite you to submit comments on this notice. In your comment, include the date and page number of this issue of the Federal Register. You may submit comments by any of the following methods:

• Federal eRulemaking Portal: Go to http://regulations.gov. Follow the online instructions for submitting comments.

• Mail: Penny Carlson, Chief, Business Operations Support Division, Kansas City Commodity Office (KCCO), P.O. Box 419205, Kansas City, Missouri 64141-6205.

You may also send comments to the Desk Officer for Agriculture, Office of Information and Regulatory Affairs, Office of Management and Budget, Washington, DC 20503.

FOR FURTHER INFORMATION CONTACT: Penny Carlson, (816) 926-2597.

SUPPLEMENTARY INFORMATION:

Title: Discharge and Delivery Survey Summary and Rate Schedule Forms.

OMB Number: 0560-0177.

Expiration Date: February 28, 2017.

Type of Request: Extension with a Revision.

Abstract: The United States donates agricultural commodities domestically and overseas for famine or other relief requirements, to combat malnutrition, and sells or donates commodities to promote economic development. FSA and CCC issue invitations to purchase or sell agricultural commodities and services for use in domestic and export programs. Vendors respond by making offers using various FSA and CCC commodity offer forms through Web-based Supply Chain System (WBSCM). The Kansas City Commodity Office acting under the authority granted by these acts, purchases discharge survey services conducted at the foreign destinations to ensure count and condition of the commodities shipped. The form for discharge survey services are not in WBSCM.

The renewal to the information collection request is for the respondents to submit information electronically in WBSCM for all processes with the exception of the discharge/delivery survey summary and the rates schedule. Vendors will be able to access WBSCM to see the date and time the system shows for receipt of bid, bid modification, or bid cancellation information. At bid opening date and time, the bid information are evaluated through the system. Acceptances will be sent to the successful offerors electronically. Awarded contracts will be posted to the FSA Web site and also to the WBSCM portal and FedBizOpps (https://www.fbo.gov/). The discharge/delivery survey summary (KC-334) will be collected electronically and by mail and the rate schedule (KC-337) will be collected by mail. The burden hours reduced because some forms in the information collection request were exempted from Paperwork Reduction Act.

For the following estimated total annual burden on respondents, the formula used to calculate the total burden hours is the estimated average time per responses multiplied by the estimated total annual of responses.

Estimate of Average Time to Respond: Public reporting burden for collecting information under this notice is estimated to average 0.482 minutes per response, including the time for reviewing instructions, searching existing data sources, gathering and maintaining the data needed, and completing and reviewing the collection of information.

Respondents: Business and other for-profit organizations.

Estimated Number of Respondents: 41.

Estimated Average Number of Responses per Respondent: 11.83.

Estimated Total Annual Responses: 485.

Estimated Total Annual Burden on Respondents: 234 hours.

We are requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Val Dolcini,
Administrator, Farm Service Agency, and Executive Vice President, Commodity Credit Corporation.

[FR Doc. 2016-29526 Filed 12-8-16; 8:45 am]

BILLING CODE 3410-05-P